DEPARTMENT OF THE INTERIOR

National Park Service

Availability of the Draft Environmental Impact Statement for the General Management Plan (DEIS/GMP); Tuskegee Airmen National Historic Site

AGENCY: National Park Service.

ACTION: Notice of Availability of a Draft Environmental Impact Statement for the General Management Plan (DEIS/GMP), Tuskegee Airmen National Historic Site.

SUMMARY: Pursuant to 42 U.S.C. 4332(2)(C) of the National Environmental Policy Act of 1969 and National Park Service (NPS) policy in Director's Order Number 2 (Park Planning) and Director's Order Number 12 (Conservation Planning, Environmental Impact Analysis, and Decision-making) the NPS announces the availability of a DEIS/GMP for the Tuskegee Airmen National Historic Site, Tuskegee, Alabama.

The document provides a framework for management, use, and development options for the historic site by the NPS for the next 15 to 20 years. It describes five management alternatives for consideration, including a No-Action Alternative that continues current management policies and the NPS's preferred alternative. The document analyzes the environmental impacts of the alternatives.

DATES: There will be a 60-day comment period beginning with the Environmental Protection Agency's publication of its notice of availability in the Federal Register.

ADDRESSES: Copies of the DEIS/GMP are available by contacting the Park Superintendent at Tuskegee Airmen National Historic Site, 1616 Chappie James Avenue, Tuskegee, Alabama 36083; telephone: 334-727-6390. An electronic copy of the DEIS/GMP is available on the Internet at http://parkplanning.nps.gov.

SUPPLEMENTARY INFORMATION: If you wish to comment on the DEIS/GMP, you may submit your comments by any one of several methods. You may mail comments to the Superintendent at the address shown above. You may also submit a comment via the Internet at http://parkplanning.nps.gov. Finally, you may present your comments in person at the public meetings to be held during the public review period in Tuskegee, Alabama.

Before including your address, phone number, e-mail address, or other personal identifying information in your comment, be advised that your entire comment—including your personal identifying information—may be made publicly available at any time. While you can ask us in your comment to withhold from public review your personal identifying information, we cannot guarantee that we will be able to do so.

Authority: The authority for publishing this notice is 40 C.F.R. 1506.6.

FOR FURTHER INFORMATION CONTACT: Contact the Superintendent, Tuskegee Airmen National Historic Site, at the address and telephone number shown above; or Amy Wirsching, Southeast Regional Office, at 404-562-3124, extension 607.

The responsible official for this DEIS is the Regional Director, Southeast Region, NPS, 100 Alabama Street, SW., 1924 Building, Atlanta, Georgia 30303.

Dated: March 10, 2009.
Art Frederick,
Acting Regional Director, Southeast Region.

[FR Doc. E9-8204 Filed 4-9-09; 8:45 am]

BILLING CODE 4312-KB-P